DEPARTMENT OF AGRICULTURE

Submission for OMB Review; Comment Request

November 12, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Dates: Comments regarding these information collections are best assured of having their full effect if received by December 16, 2019. Copies of the submission(s) may be obtained by calling (202) 720-8681. An agency may not conduct or sponsor a collection of information unless the collection of information displays a currently valid OMB control number and the agency informs potential persons who are to respond to the collection of information that such persons are not required to respond to the collection of information unless it displays a currently valid OMB control number.

National Agricultural Statistics Service (NASS)

Title: Field Crops Production—County Estimates Survey—Row Crops—Substantive Change.

OMB Control Number: 0535-0002.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

Numerous surveys included in the Agricultural Surveys Program (0535-0213) and the Field Crops Production docket (0535-0002) are used to set State and National estimates for numerous commodities. In order to publish data on a county level, much larger samples are needed. Within the Field Crops docket, are two surveys that collect supplemental data for the purpose of publishing county level data. Historically, the data collection costs for these two surveys has been partially funded through a cooperative agreement between NASS and the USDA Risk Management Agency (RMA). Due to program changes, RMA withdrew from this cooperative agreement this year. As a result, NASS is forced to reduce the County Estimates program. In the first step, NASS will reduce the number of commodities for which county level data will be made available. The commodities for which county level data will be discontinued are: Dry edible beans, flaxseed, hay (alfalfa and other), potatoes, sugarbeets, sugarcane, sunflower (non-oil and oil varieties) and tobacco. In addition, NASS will discontinue county estimates based on irrigated/non-irrigated practices. In the second step, in early 2020 NASS will evaluate the need for potentially more cost savings to the county estimate programs. If additional savings are needed, changes to small grain county estimates will be published in the Federal Register.

This substantive change resulted in an overall decrease in response burden of approximately 13,940 hours. The target sample size for enumerated questionnaires will be reduced by approximately 51,000.

Need and Use of the Information: County estimates for field crops are used by the Farm Service Agency (FSA) to carry out their legislative mandates. The primary use of the data is to determine average yields by county, used in determining participating farmers' compensation payments. The information is useful to the Natural Resources Conservation Service (NRCS) for administering programs. The information will also benefit the agricultural sector more generally by enabling the rental market for cropland to operate more competitively.

Description of Respondents: Farms sampled for the County Estimates—Row Crops.

Number of Respondents: 124,000.

Frequency of Responses: Reporting: Once.

Total Burden Hours: 33,894.

Ruth Brown,
Departmental Information Collection Clearance Officer.

[FR Doc. 2019-24789 Filed 11-14-19; 8:45 am]

BILLING CODE 3410-20-P